GENERAL SERVICES ADMINISTRATION

Multiple Award Schedule Advisory Panel; Notification of Public Advisory Panel Meetings

AGENCY: U.S. General Services Administration (GSA).

ACTION: Notice.

SUMMARY: The U.S. General Services Administration (GSA) Multiple Award Schedule Advisory Panel (MAS Panel), a Federal Advisory Committee, will hold public meetings on the dates and times given below to discuss the multiple award schedules (MAS) program. GSA utilizes the Schedules program to establish long-term Governmentwide contracts with responsible firms to provide Federal, State, and local government customers with access to a wide variety of supplies (products) and services.

The MAS Panel will develop advice and recommendations on MAS program pricing policies, provisions, and procedures in the context of current commercial pricing practices. Specifically, the MAS Panel will review the MAS policy statements, implementing regulations, solicitation provisions and other related documents regarding the structure, use, and pricing for the MAS contract awards.

DATES: Initial meeting: The initial meeting of the MAS Panel will take place on Monday, May 5, 2008, beginning at 10 a.m. and adjourning no later than 5 p.m.

Second Meeting: The second meeting for the Panel is scheduled for Thursday, May 22, 2008, 9 a.m. to 5 p.m.

ADDRESSES: Initial meeting: The initial meeting location is AIA Building, 2nd Floor, 1725 New York Avenue, NW., Washington, DC. The building is at the corner of 18th Street and New York Avenue. Entrance to the building is on either 18th Street or New York Avenue.

Second Meeting: The second meeting will be held at the General Services Administration, 1800 F Street, NW., 1st Floor Auditorium, Washington, DC 20405. Please enter the GSA building on F Street at the center of the block. The Auditorium is on the street level to the left inside the entrance. GSA is a secure facility and proper Government issued identification is required for entry. Please allow sufficient time for building entry procedures.

Subsequent meeting dates, locations, and times will be published at least 15 days prior to the meeting date.

FOR FURTHER INFORMATION CONTACT: Information on the Panel meetings, agendas, and other information can be obtained at http://www.gsa.gov/masadvisorypanel or you may contact Ms. Pat Brooks, Designated Federal Officer, Multiple Award Schedule Advisory Panel, U.S. General Services Administration, 2011 Crystal Drive, Suite 911, Arlington, VA 22205; telephone 703-604-3406, fax 703-605-3454; or via e-mail at mas.advisorypanel@gsa.gov.

SUPPLEMENTARY INFORMATION: Oral comments: Requests to present oral comments must be in writing (e-mail or fax) and received by Ms. Brooks at the above address seven (7) business days prior to the meeting date. Each individual or group requesting an oral presentation will be limited to a total time of five minutes. Speakers should bring at least 50 copies of their comments for distribution to the reviewers and public at the meeting.

Written Comments: Written comments must be also received seven (7) business days prior to the meeting date so that the comments may be provided to the Panel for their consideration prior to the meeting. Comments should be supplied to Ms. Brooks at the address/contact information noted above in the following format: One hard copy with original signature and one electronic copy via e-mail in Microsoft Word.

Availability of Materials: All meeting materials, including meeting agendas, handouts, public comments, and meeting minutes will be posted on the MAS Panel Web site at http://www.gsa.gov/masadvisorypanel or http://www.gsa.gov/masap.

Meeting Access: Individuals requiring special accommodations at these meetings should contact Ms. Brooks at least ten (10) business days prior to the meeting so that appropriate arrangements can be made.

Dated: April 11, 2008.
David A. Drabkin,
Acting Chief Acquisition Officer.

[FR Doc. E8-8252 Filed 4-15-08; 8:45 am]

BILLING CODE 6820-EP-P